NUCLEAR REGULATORY COMMISSION

[NRC-2009-0467]

Office of New Reactors; Interim Staff Guidance on Post-Combined License Commitments

AGENCY: Nuclear Regulatory Commission (NRC).

ACTION: Solicitation of public comment.

SUMMARY: The NRC is soliciting public comment on its Proposed Interim Staff Guidance (ISG) ESP/DC/COL-ISG-015 (Agencywide Documents Access and Management System (ADAMS) Accession No. ML091671355). The purpose of this ISG is to modify and provide early site permit (ESP), design certification (DC) and combined license (COL) applicants additional clarity and guidance for the application of Section C.III.4 of Regulatory Guide (RG) 1.206. In addition, the ISG provides additional clarity to the guidance in NUREG-0800, Standard Review Plan Chapter 1.0, for NRC review of DC and COL applications. While reviewing DC and COL applications, the NRC staff determined that the guidance in Section C.III.4 of RG 1.206 on COL information items that cannot be resolved before the issuance of a license needed some additional clarification and guidance. In addition, it was determined that referring to this category of COL information items as “COL Holder” items is inappropriate. Specific guidance for determining which of the commitment types (i.e., inspection, test, analysis, and acceptance criteria, license condition, and final safety analysis report commitment) was the most appropriate for these COL information items was considered necessary, along with examples for clarification, for common understanding by applicants preparing their COL applications and NRC staff reviewing these COL applications. The NRC staff issues ISGs to facilitate timely implementation of current staff guidance and to facilitate activities associated with review of applications by the Office of New Reactors. The NRC staff also intends to incorporate the approved ESP/DC/COL-ISG-015 into the next revision of RG 1.206 and related guidance documents.

DATES: Comments must be filed no later than 30 days from the date of publication of this notice in the Federal Register. Comments received after this date will be considered if it is practical to do so, but the Commission is able to ensure consideration only for comments received on or before this date.

ADDRESSES: Written comments may be submitted to Mr. Michael T. Lesar, Chief, Rulemaking and Directives Branch, MS TWB-05-B01M, Division of Administrative Services, Office of Administration, U.S. Nuclear Regulatory Commission, Washington, DC 20555-0001. Members of the public are invited and encouraged to submit comments electronically to http://www.regulations.gov. Search on Docket ID: NRC-2009-0467 and follow the instructions for submitting comments.

The NRC ADAMS provides text and image files of NRC's public documents. These documents may be accessed through the NRC's Public Electronic Reading Room on the Internet at http://www.nrc.gov/reading-rm/adams.html. Persons who do not have access to ADAMS or who encounter problems in accessing the documents located in ADAMS should contact the NRC Public Document Room reference staff at 1-800-397-4209, 301-415-4737, or by e-mail at PDR.Resource@nrc.gov.

FOR FURTHER INFORMATION CONTACT: Mr. William F. Burton, Chief, Rulemaking and Guidance Development Branch, Division of New Reactor Licensing, Office of the New Reactors, U.S. Nuclear Regulatory Commission, Washington, DC 20555-0001; at telephone 301-415-6332 or e-mail at william.burton@nrc.gov.

SUPPLEMENTARY INFORMATION: The agency posts its issued staff guidance in the agency external Web page (http://www.nrc.gov/reading-rm/doc-collections/isg/).

The NRC staff is issuing this notice to solicit public comments on proposed ESP/DC/COL-ISG-015. After the NRC staff considers any public comments, it will make a determination regarding proposed ESP/DC/COL-ISG-015.

Dated at Rockville, Maryland, this 20th day of October 2009.
For the Nuclear Regulatory Commission.
David B. Matthews,
Director, Division of New Reactor Licensing, Office of New Reactors.

[FR Doc. E9-25784 Filed 10-26-09; 8:45 am]

BILLING CODE 7590-01-P